DEPARTMENT OF COMMERCE

National Oceanic and Atmospheric Administration

[I.D. 030503B]

South Atlantic Fishery Management Council; Essential Fish Habitat/Fishery Ecosystem Plan Technical Workshops

AGENCY: National Marine Fisheries Service (NMFS), National Oceanic and Atmospheric Administration (NOAA), Commerce.

ACTION: Notice of Workshops #1 and #2, Coral, Coral Reef and Live hard Bottom Habitat and Artificial Reef Workshops.

SUMMARY: The South Atlantic Fishery Management Council (Council) will hold two technical workshops in St. Petersburg, FL involving its Habitat & Environmental Protection Advisory Panel, Coral Advisory Panel and invited scientists with background in specific habitat type or species utilization patterns. See SUPPLEMENTARY INFORMATION.

DATES: The workshops will take place on March 26 and 27, 2003. See SUPPLEMENTARY INFORMATION for specific dates and times.

ADDRESSES: The workshops will be held at the Florida Marine Research Institute, 100 Eighth Ave. SE, St. Petersburg, FL 33701-5095; telephone: 727/896-8626.

FOR FURTHER INFORMATION CONTACT: Kim Iverson, Public Information Officer, South Atlantic Fishery Management Council, One Southpark Circle, Suite 306, Charleston, S.C., 29407; telephone: 843/571-4366 or 866/SAFMC-10; fax: 843/769-4520.

SUPPLEMENTARY INFORMATION: Workshop participants will meet from 9 a.m. until 5 p.m. on March 26, 2003 and again from 9 a.m. until 3 p.m. on March 27, 2003. This workshop process will initiate development of a South Atlantic Council Fishery Ecosystem Plan (FEP) which presents fishery and resource information for fisheries in the South Atlantic Bight ecosystem in context. The workshop processes will integrate two directives in the Final Rule for Essential Fish Habitat: 1) Review and update Essential Fish Habitat information, and 2) Consider ecosystem-based management through development of a Fishery Ecosystem Plan for the South Atlantic Region.

The Council recognizes the scope of the significant task necessary to meet the new essential fish habitat mandates and directive to begin evaluating ecosystem-based management through the development of an FEP and is again calling upon the Habitat Advisory Panel members and other technical experts involved in the previous Habitat Plan development process to serve as or identify appropriate experts to function on a quasi-plan development team for this task. The Habitat and Coral Advisory Panel are scheduled to meet this fall and will provide additional guidance on the workshop process and ecosystem management.

A Final essential fish habitat (EFH) Rule was published on January 17, 2002 replacing the interim Final Rule of December 19, 1997 on which the original EFH and EFH-Habitat Area of Particular Concern (HAPC) designations were made. The Councils have, pursuant to the Final EFH Rule, been directed to update EFH and EFH-HAPC information and designations; in addition, pursuant to revisions to NOAA General Council interpretation of the National Environmental Policy Act (NEPA), the Councils will be required to update all Environmental Impact Statements for all Federal Fishery Management Plans under their jurisdiction. Information compiled during this process will further facilitate meeting both the EFH and the NEPA mandate. As was done with the original Habitat Plan, a series of technical workshops will be conducted by Council habitat staff, in cooperation with NMFS/National Ocean Service (NOS) Beaufort Laboratory, NMFS Southeast Fishery Science Center (SEFSC) Miami Laboratory, NMFS Southeast Regional Office (SERO) personnel and invited participants. Workshops are intended to build on a review of existing information presented in the Habitat Plan, and focus on updating information pursuant to the new EFH Rule. This effort will begin the integration of comprehensive details of habitat distribution and characterization, the biology of managed species including their biological and the characteristics of the food web in which they exist.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) by March 24, 2003.

Dated: March 5, 2003.
Theophilus R. Brainerd,
Acting Director, Office of Sustainable Fisheries, National Marine Fisheries Service.

[FR Doc. 03-5902 Filed 3-11-03; 8:45 am]

BILLING CODE 3510-22-S